DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 8, 2015.
Roy E. Wright,
Deputy Associate Administrator for Insurance and Mitigation, Department of Homeland Security, Federal Emergency Management Agency.

State and county | Location and case No. | Chief executive officer of community | Community map repository | Effective date of modification | Community No.
Arizona:
Gila (FEMA Docket No.: B-1519) | City of Globe (15-09-0719P) | The Honorable Terence O. Wheeler, Mayor, City of Globe, 150 North Pine Street, Globe, AZ 85501 | 150 North Pine Street, Globe, AZ 85501 | Aug. 27, 2015 | 040029
Gila (FEMA Docket No.: B-1519) | Unincorporated areas of Gila County (15-09-0719P) | The Honorable Michael A. Pastor, Chairman, Gila County Board of Supervisors, Gila County Courthouse, 1400 East Ash Street, Globe, AZ 85501 | Gila County Courthouse, 1400 East Ash Street, Globe, AZ 85501 | Aug. 27, 2015 | 040028
Maricopa (FEMA Docket No.: B-1519) | City of Goodyear (14-09-4544P) | The Honorable Georgia Lord, Mayor, City of Goodyear, 190 North Litchfield Road, Goodyear, AZ 85338 | City Hall, 190 North Litchfield Road, Goodyear, AZ 85338 | Aug. 28, 2015 | 040046
Maricopa (FEMA Docket No.: B-1519) | Unincorporated areas of Maricopa County (14-09-4544P) | The Honorable Steve Chucri, Chairman, Maricopa County Board of Supervisors, 301 West Jefferson, 10th Floor, Phoenix, AZ 85003 | Flood Control District of Maricopa County, 2801 West Durango Street, Phoenix, AZ 85009 | Aug. 28, 2015 | 040037
Maricopa (FEMA Docket No.: B-1519) | Town of Buckeye (15-09-0487P) | The Honorable Jackie A. Meck, Mayor, Town of Buckeye, 530 East Monroe Avenue, Buckeye, AZ 85326 | Town Hall, 100 North Apache Street, Suite A, Buckeye, AZ 85326 | Aug. 7, 2015 | 040039
Maricopa (FEMA Docket No.: B-1519) | City of Phoenix (15-09-0681P) | The Honorable Greg Stanton, Mayor, City of Phoenix, 200 West Washington Street, Phoenix, AZ 85003 | Street Transportation Department, 200 West Washington Street, 5th Floor, Phoenix, AZ 85003 | Jul. 31, 2015 | 040051
Maricopa (FEMA Docket No.: B-1519) | City of Phoenix (15-09-0733P) | The Honorable Greg Stanton, Mayor, City of Phoenix, 200 West Washington Street, Phoenix, AZ 85003 | Street Transportation Department, 200 West Washington Street, 5th Floor, Phoenix, AZ 85003 | Aug. 6, 2015 | 040051
Mohave (FEMA Docket No.: B-1519) | Unincorporated areas of Mohave County (15-09-1030P) | The Honorable Steven C. Moss, Chairman, Mohave County Board of Supervisors, 700 West Beale Street, Kingman, AZ 86401 | City Administration Building, 700 West Beale Street, Kingman, AZ 86401 | Aug. 25, 2015 | 040058
Pima (FEMA Docket No.: B-1519) | Town of Oro Valley (14-09-4165P) | The Honorable Satish Hiremath, Mayor, Town of Oro Valley, 11000 North La Canada Drive, Oro Valley, AZ 85737 | Planning and Zoning Department, 11000 North La Canada Drive, Oro Valley, AZ 85737 | Aug. 10, 2015 | 040109
Pinal (FEMA Docket No.: B-1519) | Town of Florence (15-09-0582P) | The Honorable Tom Rankin, Mayor, Town of Florence, P.O. Box 2670, Florence, AZ 85132 | Department of Public Works, 425 East Ruggles, Florence, AZ 85132 | Aug. 28, 2015 | 040084
California:
San Mateo (FEMA Docket No.: B-1519) | City of Foster City (15-09-0526P) | The Honorable Art Kiesel, Mayor, City of Foster City, 610 Foster City Boulevard, Foster City, CA 94404 | City Hall, 610 Foster City Boulevard, Foster City, CA 94404 | Aug. 6, 2015 | 060318
San Mateo (FEMA Docket No.: B-1519) | City of San Mateo (15-09-0526P) | The Honorable Maureen Freschet, Mayor, City of San Mateo, 330 West 20th Avenue, San Mateo, CA 94403 | City Hall, 330 West 20th Avenue, San Mateo, CA 94403 | Aug. 6, 2015 | 060328
Ventura (FEMA Docket No.: B-1519) | City of Oxnard (15-09-1117P) | The Honorable Timothy B. Flynn, Mayor, City of Oxnard, 305 West 3rd Street, Oxnard, CA 93030 | Public Works/Development Services, 305 West 3rd Street, Oxnard, CA 93030 | Aug. 14, 2015 | 060417
Ventura (FEMA Docket No.: B-1519) | Unincorporated areas of Ventura County (15-09-1117P) | The Honorable Kathy I. Long, Chair, Ventura County Board of Supervisors, 800 South Victoria Avenue, Ventura, CA 93009 | Ventura County Hall of Administration, Public Works Agency: Permit Counter, 800 South Victoria Avenue, Ventura, CA 93009 | Aug. 14, 2015 | 060413
Nevada:
Douglas (FEMA Docket No.: B-1519) | Unincorporated areas of Douglas County (15-09-0570P) | The Honorable Doug N. Johnson, Chairman, Douglas County Board of Commissioners, 1616 8th Street, Minden, NV 89423 | Douglas County Public Works Department, 1615 8th Street, Minden, NV 89423 | Jul. 30, 2015 | 320008
Washoe (FEMA Docket No.: B-1519) | Unincorporated areas of Washoe County (14-09-3181P) | The Honorable Marsha Berkbigler, Chair, Washoe County Board of Commissioners, P.O. Box 11130, Reno, NV 89520 | Washoe County Administration Building, Department of Public Works, 1001 East Ninth Street, Reno, NV 89512 | Jul. 31, 2015 | 320019

[FR Doc. 2015-27411 Filed 10-27-15; 8:45 am]

BILLING CODE 9110-12-P